ENVIRONMENTAL PROTECTION AGENCY

[ER-FRL-6681-6]

Environmental Impacts Statements; Notice of Availability

Responsible Agency: Office of Federal Activities, General Information (202) 564-7167 or http://www.epa.gov/compliance/nepa/.

Weekly receipt of Environmental Impact Statements

Filed 11/20/2006 Through 11/24/2006

Pursuant to 40 CFR 1506.9.

Emergency Comments:

EIS No. 20060486, Draft EIS, NPS, MD, White-Tailed Deer Management Plan, Implementation, Catocin Mountain Park, Frederick and Washington Counties, MD, Comment Period Ends: 01/29/2007, Contact: Donna Swauger, 301-416-0135.

EIS No. 20060487, Final EIS, AFS, CA, South Yuba Canal Maintenance Project, Hazardous Trees Removal, Implementation, Tahoe National Forest, Nevada County, CA, Wait Period Ends: 01/17/2007, Contact: Dennis W. Stevens, 530-478-6253.

EIS No. 20060488, Final EIS, BLM, WY, Atlantic Rim Natural Gas Field Development Project, Proposed Natural Gas Development to 2000 Wells, 1800 to Coal Beds and 200 to Other Formations, Carbon County, WY, Wait Period Ends: 01/02/2007, Contact: David Simons, 307-328-4328.

EIS No. 20060489, Final EIS, COE, 00, Lock and Dam 3 Mississippi River Navigation Safety and Embankments, To Reduce Related Navigation Safety and Embankment Problems, Upper Mississippi River, Goodhue County, MN and Pierce County, WI, Wait Period Ends: 01/02/2007, Contact: Daniel Wilcox, 651-290-5276.

EIS No. 20060490, Draft EIS, OSM, 00, Black Mesa Project, Revisions to the Life-of-Mine Operation and Reclamation for the Kayenta and Black Mesa Surface-Coal Mining Operations, Right-of-Way Grant, Mohave, Navajo, Coconino and Yavapai Counties, AZ and Clark County, NV, Comment Period Ends: 01/22/2007, Contact: Peter A. Rutledge, 303-844-1400 Ext. 1440.

EIS No. 20060491, Second Final EIS (Tiering), FHW, WA, WA-167 Freeway Project, Construction, from 161 (Meridan Street North) in the City of Puyallup to the WA-509 Freeway in the City of Tacoma, Funding, U.S. Coast Guard, NPDES, U.S. Army COE Section 10 and 404 Permits, Cities of Puyallup, Fife, Edgewood, Milton, and Tacoma, Pierce County, WA, Wait Period Ends: 01/02/2007 Contact: Megan Hall, 360-753-8079.

EIS No. 20060492, Final EIS, BIA, OR, Coyote Business Park, Confederated Tribes of the Umatilla Indian Reservation, Proposes to Develop, Build and Manage a Light Industrial Commercial Business Park, Umatilla County, OR, Wait Period Ends: 01/02/2007, Contact: Jerry Lauer, 541-278-3786.

EIS No. 20060493, Draft EIS, IBR, CA, Folsom Dam Safety and Flood Damage Reduction Project, Addressing Hydrologic, Seismic, Static, and Flood Management Issues, Sacramento, El Dorado and Placer Counties, CA, Comment Period Ends: 01/16/2007, Contact: Shawn Oliver, 916-989-7256.

EIS No. 20060494, Draft EIS, DOE, WV, Western Greenbier Co-Production Demonstration Project, Construction and Demonstration of a 98 megawatt (MWe) Net Power Plant and Ash Byproduct Manufacturing Facility, Rainelle, WV, Comment Period Ends: 01/17/2007, Contact: Roy Spears 304-285-5460.

EIS No. 20060495, Final EIS, FHW, WA, WA-28 Eastside Corridor Project, Proposal to Improve WA-28 (Sunset Highway) Corridor from WA-2-97 (Ocdabashian Bridge) to 9th Street N.E. in East Wenatcheee, City of East Wenatchee, Douglas County, WA, Wait Period Ends: 01/02/2007, Contact: Steve Saxton, 360-753-9411.

EIS No. 20060496, Final EIS, SFW, AL, Gulf Highlands Condominium and Beach Club West Residential/Recreational Condominium Projects, Application for Two Incidental Take Permits for the Construction and Occupancy, Fort Morgan Peninsula, Baldwin County, AL, Wait Period Ends: 01/02/2007, Contact: Aaron Valenta, 404-679-4144.

EIS No. 20060497, Final EIS, FRC, MS, Clean Energy Liquefied Natural Gas (LNG) Import Terminal and Natural Gas Pipeline Facilities, Construction and Operation, U.S. Army COE Section 10 and 404 Permits, (FERC/EIS-0192D), Port of Pascagoula, Jackson County, MS, Wait Period Ends: 01/02/2007, Contact: Bryan Lee, 1-866-208-3372.

Amended Notices

EIS No. 20060401, Draft EIS, FRC, CA, Oroville Facilities Project, Issuing an New Federal License to Continue Hydroelectric Power (FERC No. 2100), Feather River, Sierra Nevada, Butte County, CA, Comment Period Ends: 12/19/2006, Contact: James Fargo, 202-502-6095. Revision to FR Notice Published on 10/06/2006: Extending Comment Period from 11/20/2006 to 12/19/2006.

EIS No. 20060414, Draft EIS, USA, CO, Pinon Canyon Maneuver Site (PCMS) Transformation Program, Implementation, Base Realignment and Closure Activities, Fort Carson, Las Animas, Otero and Huerfano Counties, CO, Comment Period Ends: 01/11/2007, Contact: Karen Wilson, 703-602-2861. Revision to FR Notice Published 10/13/2006: Extending Comment Period from 11/27/2006 to 01/11/2007.

EIS No. 20060415, Draft EIS, USA, CO, Fort Carson Transformation Program, Implementation, Base Realignment and Closure Activities, Fort Carson, El Paso, Pueblo and Fremont Counties, CO, Comment Period Ends: 01/11/2007, Contact: Karen Wilson, 703-602-2861. Revision to FR Notice Published 10/13/2006: Extending Comment Period from 11/27/2006 to 01/11/2007.

EIS No. 20060434, Draft Supplement, AFS, AK, Kenai Winter Access Project, Updated Information on New Alternative, Develop a Winter Access Management Plan for 2006/2007 Winter Season, Implementation, Seward Ranger District, Chugach National Forest, Located on the Kenai Peninsula in Southcentral, AK, Comment Period Ends: 12/18/2006, Contact: Sharon Randall, 907-743-9497. Revision to FR Notice Published on 10/20/2006: Extending Comment Period from 12/04/2006 to 12/18/2006.

Dated: November 28, 2006.
Robert W. Hargrove,
Director, NEPA Compliance Division, Office of Federal Activities.

[FR Doc. E6-20349 Filed 11-30-06; 8:45 am]

BILLING CODE 6560-50-P